INTERNATIONAL TRADE COMMISSION

[Investigation Nos. 701-TA-589 and 731-TA-1394-1395 (Final)]

Forged Steel Fittings From China and Italy

Determinations

On the basis of the record ¹ developed in the subject investigations, the United States International Trade Commission (“Commission”) determines, pursuant to the Tariff Act of 1930 (“the Act”), that an industry in the United States is materially injured by reason of imports of forged steel fittings from China and Italy that have been found by the U.S. Department of Commerce (“Commerce”) to be sold in the United States at less than fair value (“LTFV”), and to be subsidized by the government of China.

¹ The record is defined in sec. 207.2(f) of the Commission's Rules of Practice and Procedure (19 CFR 207.2(f)).

Background

The Commission instituted these investigations effective October 5, 2017, following receipt of a petition filed with the Commission and Commerce by Bonney Forge Corporation, Mount Union, Pennsylvania, and the United Steel, Paper and Forestry, Rubber, Manufacturing, Energy, Allied Industrial and Service Workers International Union, Pittsburgh, Pennsylvania. Effective May 17, 2018, the Commission established a general schedule for the conduct of the final phase of its investigations on forged steel fittings, following notification of preliminary determinations by Commerce that imports of forged steel fittings from China, Italy, and Taiwan were being sold at LTFV within the meaning of 733(b) of the Act (19 U.S.C. 1673b(b)).² Notice of the scheduling of the final phase of the Commission's investigations and of a public hearing to be held in connection therewith was given by posting copies of the notice in the Office of the Secretary, U.S. International Trade Commission, Washington, DC, and by publishing the notice in the Federal Register on June 4, 2018 (83 FR 25715). The hearing was held in Washington, DC, on August 2, 2018, and all persons who requested the opportunity were permitted to appear in person or by counsel. The Commission subsequently issued its final affirmative determination regarding dumped imports of forged steel fittings from Taiwan on September 14, 2018 (83 FR 47640, September 20, 2018). Following notification of final determinations by Commerce that imports of forged steel fittings from Italy and China were being sold at LTFV within the meaning of section 735(a) of the Act (19 U.S.C. 1673d(a)),³ and subsidized by the government of China within meaning of section 705(a) of the Act (19 U.S.C. 1671d(a)),⁴ notice of the supplemental schedule of the final phase of the Commission's antidumping and countervailing duty investigations with respect to China and Italy was given by posting copies of the notice in the Office of the Secretary, U.S. International Trade Commission, Washington, DC, and by publishing the notice in the Federal Register of October 22, 2018 (83 FR 53295).

² Forged Steel Fittings from the People's Republic of China: Affirmative Preliminary Determination of Sales at Less Than Fair Value, Postponement of Final Determination and Extension of Provisional Measures, 83 FR 22948, May 17, 2018; Forged Steel Fittings From Italy: Preliminary Affirmative Determination of Sales at Less Than Fair Value, Postponement of Final Determination and Extension of Provisional Measures, 83 FR 22954, May 17, 2018; and Forged Steel Fittings from Taiwan: Affirmative Preliminary Determination of Sales at Less Than Fair Value, 83 FR 22957, May 17, 2018; see also Forged Steel Fittings from the People's Republic of China: Preliminary Affirmative Countervailing Duty Determination and Alignment of Final Determination With Final Antidumping Duty Determination, 83 FR 11170, March 14, 2018.

³ Forged Steel Fittings from the People's Republic of China: Final Determination of Sales at Less Than Fair Value, 83 FR 50339, October 5, 2018 and Forged Steel Fittings from Italy: Final Determination of Sales at Less Than Fair Value, 83 FR 50345, October 5, 2018.

⁴ Forged Steel Fittings from the People's Republic of China: Final Affirmative Countervailing Duty Determination, 83 FR 50342, October 5, 2018.

The Commission made these determinations pursuant to sections 705(b) and 735(b) of the Act (19 U.S.C. 1671d(b) and 19 U.S.C. 1673d(b)). It completed and filed its determinations in these investigations on November 19, 2018. The views of the Commission are contained in USITC Publication 4850 (November 2018), entitled Forged Steel Fittings from China and Italy: Investigation Nos. 701-TA-589 and 731-TA-1394-1395 (Final).

By order of the Commission.
Issued: November 19, 2018.
Katherine Hiner,
Supervisory Attorney.

[FR Doc. 2018-25612 Filed 11-23-18; 8:45 am]

BILLING CODE 7020-02-P